Title 3—

The President

Proclamation 9544 of November 18, 2016

National Family Week, 2016

By the President of the United States of America

A Proclamation

Through every passing generation, families have formed the backbone of our society. With pride, passion, and a commitment to their loved ones, family members give of themselves to create opportunities they never had and forge a brighter future for themselves and their children. This week, we honor the families who have built the America we know today and reaffirm our commitment to ensuring every family can have their chance at a fair shot.

Nobody should have to choose between spending time with their family and financially supporting them, and my Administration has prioritized efforts to strengthen families and address the challenges we face in our workforce. Thanks to the Affordable Care Act, the uninsured rate has never been lower, and more families have been able to get quality, affordable health care. But there is more work to be done. The United States is the only advanced country that does not guarantee paid family or sick leave, and too often, American workers have to make painful choices about whether they can afford to be there when their families need them most. Workers also deserve fair work schedules that ensure predictability and certainty. And women should be paid the same as men for doing the same jobs—a principle that is not just fair and ethical, but also necessary because more women are their family's main breadwinners than ever before.

We all have a role to play in lifting up families, and the Federal Government is leading by example. To help give more families the comfort of safe and nurturing child care, my Administration published a new rule earlier this year to strengthen quality, health, and safety standards for child care programs. Earlier this year, I took action to expand overtime protections to more than 4 million workers, and because no one who works full time should have to raise their family in poverty, I have called on the Congress to raise the Federal minimum wage—in the meantime, cities, States, and businesses across our country have taken action, answering the call to raise the minimum wage and helping American families everywhere.

Families of every race, religion, and background have written America's story and embodied our founding notion: that out of many, we are one. Adoptive and foster families open their hearts and their homes to welcome children in need, patriotic military families sacrifice precious time with their loved ones to give us the opportunity to be with ours, and last year, the families of gay and lesbian couples who fought so long for basic civil rights were finally recognized as equal under the law.

Through challenging moments and difficult times, America's families are representative of the strength and unity at the core of our communities. Their love is an enduring reminder of what is best about our country. This week, let us celebrate the devotion of dedicated family members across our Nation and pledge to give them the support they need to thrive.

NOW, THEREFORE, I, BARACK OBAMA, President of the United States of America, by virtue of the authority vested in me by the Constitution and the laws of the United States, do hereby proclaim November 20 through November 26, 2016, as National Family Week. I invite all States, communities, and individuals to join in observing this week with appropriate ceremonies and activities to honor our Nation's families.

IN WITNESS WHEREOF, I have hereunto set my hand this eighteenth day of November, in the year of our Lord two thousand sixteen, and of the Independence of the United States of America the two hundred and forty-first.

[FR Doc. 2016-28466

Filed 11-22-16; 11:15 am]

Billing code 3295-F7-P